SMALL BUSINESS ADMINISTRATION

[Disaster Declaration # 10812]

Washington Disaster # WA-00009

AGENCY: U.S. Small Business Administration.

ACTION: Notice.

SUMMARY: This is a Notice of the Presidential declaration of a major disaster for Public Assistance Only for the State of Washington (FEMA-1682-DR), dated February 14, 2007.

Incident: Severe Winter Storms, Landslides, and Mudslides.

Incident Period: December 14, 2006 through December 15, 2006.

Effective Date: February 14, 2007.

Physical Loan Application Deadline Date: April 16, 2007.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the President's major disaster declaration on 02/14/2007, Private Non-Profit organizations that provide essential services of a governmental nature may file disaster loan applications at the address listed above or other locally announced locations.

The following areas have been determined to be adversely affected by the disaster:

Primary Counties:

Chelan, Clallam, Clark, Grant, Grays Harbor, Island, King, Klickitat, Lewis, Mason, Pacific, Pend Oreille, Pierce, San Juan, Skagit, Skamania, Snohomish, Thurston, Wahkiakum.

The Interest Rates are:

| Percent
Other (Including Non-Profit Organizations) With Credit Available Elsewhere | 5.250
Businesses and Non-Profit Organizations Without Credit Available Elsewhere | 4.000

The number assigned to this disaster for physical damage is: 10812.

(Catalog of Federal Domestic Assistance Number 59008).

Roger B. Garland,
Acting Associate Administrator for Disaster Assistance.

[FR Doc. E7-3088 Filed 2-22-07; 8:45 am]

BILLING CODE 8025-01-P